DEPARTMENT OF ENERGY

Federal Energy Regulatory Commission

[Docket Nos. ER01-1740-002]

New York Independent System Operator, Inc.; Notice of Filing

June 21, 2001.

Take notice that on June 18, 2001, the New York Independent System Operator, Inc. (NYISO) filed revisions to its Open Access Transmission Tariff in order to include a description of the cost allocation methodology for its Incentivized Day-Ahead Economic Load Curtailment Program, pursuant to the Commission's order issued on May 16, 2001 in the above-captioned proceeding. The NYISO has requested an effective date of May 1, 2001.

The NYISO has served a copy of this filing upon parties on the official service lists maintained by the Commission for the above-captioned dockets.

Any person desiring to be heard or to protest such filing should file a motion to intervene or protest with the Federal Energy Regulatory Commission, 888 First Street, NE., Washington, DC 20426, in accordance with Rules 211 and 214d of the Commission's Rules of Practice and Procedure (18 CFR 385.211 and 385.214). All such motions and protests should be filed on or before July 9, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments, protests and interventions may be filed electronically via the internet in lieu of paper. See, 18 CFR 385.2001(a)(1)(iii) and the instructions on the Commission's web site at http:www.ferc.fed.us/efi/doorbell.htm.

Linwood A. Watson, Jr.,
Acting Secretary.

[FR Doc. 01-16504 Filed 6-29-01; 8:45 am]

BILLING CODE 6717-01-M